DEPARTMENT OF HEALTH AND HUMAN SERVICES

Centers for Disease Control and Prevention

[30DAY-15-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Children's Longitudinal Development Study, OMB No. 0920-0450—Revision—National Center for Birth Defects and Developmental Disabilities (NCBDDD), Centers for Disease Control and Prevention (CDC). CDC developed the Children's Longitudinal Development Study to investigate etiologic factors for select developmental disabilities. Since 1991, surveillance of children aged three to ten years who have one or more select developmental disabilities (cerebral palsy, mental retardation, hearing loss, and vision impairment) has been conducted in the five-county Atlanta metropolitan area through CDC Metropolitan Atlanta Developmental Disabilities Surveillance Program (MADDSP).

MADDSP has identified children with developmental disabilities primarily through the special education programs of the public schools in those five counties. Recently, the Metropolitan Atlanta Developmental Disabilities Surveillance Program has been expanded to identify children with cerebral palsy at younger ages through a broader array of medical facilities where diagnostic evaluations are performed, and autism has been included as one of the developmental disabilities.

CDC National Center for Birth Defects and Developmental Disabilities Children's Longitudinal Development Study is an ongoing case-control study that will serve as an instrument to annually, (1) contact parents of all children (1000 children) with any of the five developmental disabilities who are newly identified in the surveillance database and who were born in the metro Atlanta area; (2) contact parents of 500 children to request access to labor and delivery, maternal, and prenatal records; and (3) conduct telephone interviews with mothers of children with cerebral palsy or autism. The interviews will supply additional risk factor information relating to the mothers' medical and reproductive histories, prenatal behaviors and exposures, and family histories of developmental problems. Additionally, photographs and head circumference measurements of children will be included in the interview sample.

The annual burden hours are estimated to be 1,625.

Survey instruments | No. of respondents | No. of responses/respondents | Avg. burden/response (in hrs.)
Mothers:
Contact Calls | 1000 | 1 | 20/60
Scheduling Calls | 500 | 1 | 20/60
Telephone Interview | 500 | 1 | 90/60
Photography/Anthropometry | 500 | 1 | 45/60

Dated: December 23, 2002.
John R. Moore,
Acting Associate Director for Policy, Planning and Evaluation, Centers for Disease Control and Prevention (CDC).

[FR Doc. 02-32958 Filed 12-27-02; 8:45 am]

BILLING CODE 4163-18-P